DEPARTMENT OF THE INTERIOR

Bureau of Land Management

[WY-957-02-1420-BJ]

Plats of Survey Filing; Wyoming

AGENCY: Bureau of Land Management, Interior.

ACTION: Notice of filing of plats of survey, Wyoming.

SUMMARY: The Bureau of Land Management (BLM) has filed the plats of survey of the lands described below in the BLM Wyoming State Office, Cheyenne, Wyoming, on June 9, 2003.

FOR FURTHER INFORMATION CONTACT: Bureau of Land Management, 5353 Yellowstone Road, PO Box 1828, Cheyenne, Wyoming 82003.

SUPPLEMENTARY INFORMATION: These surveys were executed at the request of the Bureau of Land Management, and are necessary for the management of resources. The lands surveyed are:

The plat representing the dependent resurvey of a portion of the subdivisional lines, and the subdivision of section 28, and the metes and bounds survey of Parcel A, section 28 Township 26 north, Range 105 west, Sixth Principal Meridian, Wyoming, was accepted June 9, 2003.

The plat representing the dependent resurvey of a portion of the subdivisional lines and the subdivision of section lines and the subdivision of section 27, Township 34 north, Range 109 west, Sixth Principal Meridian, Wyoming, was accepted June 9, 2003.

Copies of the preceding described plats are available to the public.

Dated: June 12, 2003.
John P. Lee,
Chief Cadastral Surveyor, Division of Support Services.

[FR Doc. 03-15328 Filed 6-17-03; 8:45 am]

BILLING CODE 4310-22-P